DEPARTMENT OF LABOR

Office of the Secretary

Submission for OMB Review: Comment Request

January 24, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Employment Standards Administration (ESA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employment Standards Administration.

Type of Review: Extension of currently approved collection.

Title: Optional Use Payroll Form under the Davis-Bacon Act.

OMB Number: 1215-0149.

Form Number: WH-347.

Frequency: Weekly.

Type of Response: Reporting and Recordkeeping.

Affected Public: Business or other for-profit; Federal Government; and State, Local, or Tribal Government.

Number of Respondents: 54,620.

Annual Reponses: 5,025,040.

Average Response Time: 56 minutes.

Total Annual Burden Hours: 4,700,000.

Total Annualized Capital/startup Costs: $0.

Total Annual Costs (Operating/maintaining Systems or Purchasing Services): $211,052.

Description: The Copeland Act (40 U.S.C. 3145) requires contractors and subcontractors performing work on Federally financed or assisted construction contracts to “furnish weekly a statement with respect to the wages paid each employee during the preceding week.” Regulations 29 CFR 5.5(a)(3)(ii) requires contractors weekly to submit a copy of all payrolls to the Federal agency contracting for or financing the construction project. A signed “Statement of Compliance” indicating the payrolls are correct and complete and that each laborer or mechanic has been paid not less than the proper Davis-Bacon Act prevailing wage rate for the work performed must accompany the payroll.

Regulations 29 CFR 3.3(b) requires each contractor to furnish such weekly “Statements of Compliance.” Regulations 29 CFR 5.5(a)(3)(i) requires the Social Security Number of each employee on such payrolls.

Regulations 29 CFR 3.4 and 5.5(a)(3)(i) require contractors to maintain these records for three years after completion of the work. Contractors and subcontractors must certify their payrolls by attesting that persons performing work on Davis-Bacon and Related Acts (DBRA) covered contracts have received the proper payment of wages and fringe benefits. Contracting officials and Wage and Hour Division staff use these certified payrolls to verify that contractors pay the required rates and as an aid in determining whether the contractors have properly classified the workers for the work they perform. The DOL has developed the optional use Form WH-347, Payroll Form, which contractors may use to meet the payroll reporting requirements. The form contains the basic payroll information that contractors must furnish each week they perform any work subject to the DBRA.

Ira L Mills,
Departmental Clearance Officer.

[FR Doc. E6-1132 Filed 1-27-06; 8:45 am]

BILLING CODE 4510-27-P